DEPARTMENT OF COMMERCE

International Trade Administration

[C-570-971]

Multilayered Wood Flooring From the People's Republic of China: Final Results and Partial Rescission of Countervailing Duty Administrative Review; 2016

AGENCY: Enforcement and Compliance, International Trade Administration, Department of Commerce.

SUMMARY: The Department of Commerce (Commerce) determines that Jiangsu Senmao Bamboo Wood Industry Co., Ltd. (Jiangsu Senmao) and Riverside Plywood Corp. and its cross-owned affiliates (Riverside Plywood), producers and/or exporters of multilayered wood flooring (wood flooring) from the People's Republic of China (China), received countervailable subsidies during the period of review (POR) January 1, 2016 through December 31, 2016.

DATES: Applicable August 6, 2019.

FOR FURTHER INFORMATION CONTACT: Dennis McClure or Suzanne Lam, AD/CVD Operations, Office VIII, Enforcement and Compliance, International Trade Administration, U.S. Department of Commerce, 1401 Constitution Avenue NW, Washington, DC 20230; telephone: (202) 482-5973 or (202) 482-0783, respectively.

SUPPLEMENTARY INFORMATION:

Background

Commerce published the Preliminary Results of the administrative review in the Federal Register on December 28, 2018.¹ For the events that occurred since Commerce published the Preliminary Results, see the Issues and Decision Memorandum.² We invited interested parties to comment on the Preliminary Results. On April 23, 2019, we received comments from Jiaxing Brilliant Import & Export Co. (Jiaxing Brilliant) in lieu of a case brief.³ On April 23, 2019, we received case briefs from American Manufacturers of Multilayered Wood Flooring (Petitioner), the GOC, Jiangsu Senmao, and Riverside Plywood.⁴ On May 1, 2019, we received rebuttal case briefs from the Petitioner, the Government of the People's Republic of China (GOC), Jiangsu Senmao, and Riverside Plywood.⁵

¹ See Multilayered Wood Flooring from the People's Republic of China: Preliminary Results of Countervailing Duty Administrative Review, Rescission of Review, in Part, and Intent to Rescind the Review in Part; 2016, 83 FR 67229 (December 28, 2018) (Preliminary Results), and accompanying Preliminary Decision Memorandum.

² See Memorandum to Christian Marsh, Deputy Assistant Secretary for Enforcement and Compliance, from James Maeder, Deputy Assistant Secretary for Antidumping and Countervailing Duty Operations, “Decision Memorandum for Final Results and Partial Rescission of Countervailing Duty Administrative Review: Multilayered Wood Flooring from the People's Republic of China; 2016” (Issues and Decision Memorandum), dated concurrently with, and hereby adopted by, this notice.

³ See Letter from Jiaxing Brilliant, “Multilayered Wood Flooring from the People's Republic of China—Letter In Lieu of Case Brief,” dated April 23, 2019.

⁴ See Letters from Petitioner, “Multilayered Wood Flooring from the People's Republic of China: Case Brief,” dated April 23, 2019; the Government of China (GOC), “Government of China's Affirmative Case Brief Multilayered Wood Flooring from the People's Republic of China,” dated April 23, 2019; Jiangsu Senmao, “Multilayered Wood Flooring from the People's Republic of China: Case Brief,” dated April 23, 2019; and Riverside Plywood, “Riverside Plywood Co., Ltd.—Administrative Case Brief: 2016 Administrative Review of the Countervailing Duty Order on Multilayered Wood Flooring from China (C-570-971),” dated April 23, 2019.

⁵ See Letters from the Petitioner, “Multilayered Wood Flooring from the People's Republic of China: Rebuttal Brief,” dated May 1, 2019; the GOC, “Government of China's Rebuttal Case Brief Multilayered Wood Flooring from the People's Republic of China,” dated May 1, 2019; Jiangsu Senmao, “Multilayered Wood Flooring from the People's Republic of China: Rebuttal Brief,” dated May 1, 2019; and Riverside Plywood, “Riverside Plywood—Rebuttal Brief: 2016 Administrative Review of the Countervailing Duty Order on Multilayered Wood Flooring from China (C-570-971),” dated May 1, 2019.

Commerce exercised its discretion to toll all deadlines affected by the partial federal government closure from December 22, 2018 through the resumption of operations on January 29, 2019.⁶ The revised deadline for the final results was May 30, 2019. On May 29, 2019, we extended this deadline to July 30, 2019.⁷

⁶ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

⁷ See Memorandum, “Multilayered Wood Flooring from the People's Republic of China: Extension of the Deadline for the Final Results of Countervailing Duty Administrative Review,” dated May 29, 2019.

Scope of the Order ⁸

⁸ See Order; see also Multilayered Wood Flooring from the People's Republic of China: Final Clarification of the Scope of the Antidumping and Countervailing Duty Orders, 82 FR 27799 (June 19, 2017).

The product covered by the Order is wood flooring from the China. A full description of the scope of the order is contained in the Issues and Decision Memorandum.

Analysis of Comments Received

All issues raised in the parties' briefs are addressed in the Issues and Decision Memorandum. A list of the issues addressed is attached to this notice.⁹ The Issues and Decision Memorandum is a public document and is on file electronically via Enforcement and Compliance's Antidumping and Countervailing Duty Centralized Electronic Service System (ACCESS). ACCESS is available to registered users at http://access.trade.gov and in the Central Records Unit, Room B8024 of the main Department of Commerce building. In addition, a complete version of the Issues and Decision Memorandum can be accessed directly at http://enforcement.trade.gov/frn/. The signed Issues and Decision Memorandum and the electronic version of the Issues and Decision Memorandum are identical in content.

⁹ See Appendix I.

Changes From the Preliminary Results

Based on our analysis of the comments received, Commerce made certain revisions to the rates assigned to Jiangsu Senmao and Riverside Plywood. The Issues and Decision Memorandum contains descriptions of these revisions.

Methodology

Commerce conducted this review in accordance with section 751(a)(1)(A) of the Act. For each of the subsidy programs found countervailable, we find that there is a subsidy, i.e., a government-provided financial contribution that gives rise to a benefit to the recipient, and that the subsidy is specific.¹⁰ The Issues and Decision Memorandum contains a full description of the methodology underlying Commerce's conclusions, including any determination that relied upon the use of adverse facts available pursuant to sections 776(a) and (b) of the Act.

¹⁰ See sections 771(5)(B) and (D) of the Act regarding financial contribution; section 771(5)(E) of the Act regarding benefit; and section 771(5A) of the Act regarding specificity.

Partial Rescission of Administrative Review

As noted in the Preliminary Results, Commerce timely received no-shipment certifications from Anhui Boya Bamboo & Wood Products Co., Ltd., Chinafloors Timber (China) Co., Ltd., Hunchun Forest Wolf Wooden Industry Co., Ltd. (Hunchun Forest), Jiangsu Keri Wood Co., Ltd., Jiashan On-Line Lumber Co., Ltd., Kingman Floors Co., Ltd., Linyi Bonn Flooring Manufacturing Co., Ltd., and Zhejiang Shiyou Timber Co., Ltd. We inquired with U.S. Customs and Border Protection (CBP) whether these companies had shipped merchandise to the United States during the POR. CBP provided no evidence to contradict the claims of no shipments made by these companies, except for Hunchun Forest. Accordingly, we stated our intention to rescind the review with respect to these companies in the Preliminary Results. As the facts have remained the same since the Preliminary Results, we are rescinding the administrative review of these companies, pursuant to 19 CFR 351.213(d)(3).

On October 29, 2018, Huzhou Muyun Wood Co., Ltd. (Muyun Wood) filed a no-shipment certification. On November 13, 2018, we rejected Muyun Wood's request for no-shipment status because the request was untimely filed. Therefore, we are including Muyun Wood in this administrative review for purposes of the final results.

Hunchun Forest also timely filed a no-shipment certification. However, Hunchun Forest subsequently withdrew its no-shipment submission. Therefore, we are including Hunchun Forest in this administrative review for purposes of the final results.

Rate for Non-Selected Companies Under Review

In this review, in addition to the two selected mandatory respondents, there are 132 companies for which a review was requested and not rescinded, but which were not selected for individual examination (non-selected companies). For these companies, we applied the average of the rates calculated for the mandatory respondents, Jiangsu Senmao and Riverside Plywood, which are above de minimis. For further information on the calculation of the non-selected rate, refer to the section in the Issues and Decision Memorandum entitled, “Ad Valorem Rate for Non-Selected Companies Under Review.” Concerning Jiaxing Brilliant's April 23, 2019, comments, we note that we inadvertently included the company in our review. Jiaxing Brilliant was excluded from the order as a result of the final determination in the investigation segment of this case.¹¹ Therefore, Jiaxing Brilliant is not subject to this review and is excluded from the list of non-selected companies receiving a rate below.

¹¹ See Multilayered Wood Flooring From the People's Republic of China: Countervailing Duty Order, 76 FR 76693, 76694 (December 8, 2011).

Final Results

In accordance with 19 CFR 351.221(b)(4)(i), we determine the following net subsidy rates for the 2016 administrative review:

Producer/exporter | Subsidy rate (percent)
Jiangsu Senmao Bamboo Wood Industry Co., Ltd | 2.96
Riverside Plywood Corp. and its Cross-Owned Affiliates ¹² | 3.20

Review-Specific Average Rate Applicable to the Following Non-Selected Companies:

¹² Cross-owned affiliates are Baroque Timber Zhongshan Co. Ltd. and Suzhou Times Flooring Co., Ltd.

Producer/exporter | Subsidy rate (percent)
A&W (Shanghai) Woods Co., Ltd | 3.10
Anhui Longhua Bamboo Product Co., Ltd | 3.10
Anhui Suzhou Dongda Wood Co., Ltd | 3.10
Armstrong Wood Products (Kunshan) Co., Ltd | 3.10
Baishan Huafeng Wooden Product Co., Ltd | 3.10
Baiying Furniture Manufacturer Co., Ltd | 3.10
Benxi Flooring Factory (General Partnership) | 3.10
Benxi Wood Company | 3.10
Changbai Mountain Development and Protection Zone Hongtu Wood Industrial Co., Ltd | 3.10
Changzhou Hawd Flooring Co., Ltd | 3.10
Cheng Hang Wood Co., Ltd | 3.10
Dalian Dajen Wood Co., Ltd | 3.10
Dalian Huade Wood Product Co., Ltd | 3.10
Dalian Huilong Wooden Products Co., Ltd | 3.10
Dalian Jaenmaken Wood Industry Co., Ltd | 3.10
Dalian Jiahong Wood Industry Co., Ltd | 3.10
Dalian Jiuyuan Wood Industry Co., Ltd | 3.10
Dalian Kemian Wood Industry Co., Ltd | 3.10
Dalian Qianqiu Wooden Product Co., Ltd | 3.10
Dalian T-Boom Wood Products Co., Ltd | 3.10
Dalian Xinjinghua Wood Co., Ltd | 3.10
Dongtai Fuan Universal Dynamics, LLC | 3.10
Dongtai Zhangshi Wood Industry Co. Ltd | 3.10
Dun Hua Sen Tai Wood Co., Ltd | 3.10
Dunhua City Dexin Wood Industry Co., Ltd | 3.10
Dunhua City Hongyuan Wood Industry Co., Ltd | 3.10
Dunhua City Wanrong Wood Industry Co., Ltd | 3.10
Dunhua Shengda Wood Industry Co., Ltd | 3.10
Fine Furniture (Shanghai) Limited | 3.10
Fu Lik Timber (HK) Co., Ltd | 3.10
Fujian Wuyishan Werner Green Industry Co., Ltd | 3.10
Fusong Jinlong Wooden Group Co., Ltd | 3.10
Fusong Qianqiu Wooden Product Co., Ltd | 3.10
GTP International Ltd | 3.10
Guangdong Fu Lin Timber Technology Limited | 3.10
Guangdong Yihua Timber Industry Co., Ltd | 3.10
Guangzhou Homebon Timber Manufacturing Co., Ltd | 3.10
Guangzhou Panyu Kangda Board Co., Ltd | 3.10
Guangzhou Panyu Southern Star Co., Ltd | 3.10
HaiLin LinJing Wooden Products, Ltd | 3.10
HaiLin XinCheng Wooden Products, Ltd | 3.10
Hangzhou Dazhuang Floor Co., Ltd (dba Dasso Industrial Group Co., Ltd) | 3.10
Hangzhou Hanje Tec Company Limted | 3.10
Hangzhou Huahi Wood Industry Co., Ltd | 3.10
Hangzhou Zhengtian Industrial Co., Ltd | 3.10
Henan Xingwangjia Technology Co., Ltd | 3.10
Hong Kong Easoon Wood Technology Co., Ltd | 3.10
Huaxin Jiasheng Wood Co., Ltd | 3.10
Huber Engineering Wood Corp | 3.10
Hunchun Forest Wolf Wooden Industry Co., Ltd | 3.10
Hunchun Xingjia Wooden Flooring Inc | 3.10
Huzhou Chenghang Wood Co., Ltd | 3.10
Huzhou City Nanxun Guangda Wood Co., Ltd | 3.10
Huzhou Fulinmen Imp. & Exp. Co., Ltd | 3.10
Huzhou Fuma Wood Co., Ltd | 3.10
Huzhou Muyun Wood Co., Ltd | 3.10
Huzhou Sunergy World Trade Co., Ltd | 3.10
Innomaster Home (Zhongshan) Co., Ltd | 3.10
Jiafeng Wood (Suzhou) Co., Ltd | 3.10
Jiangsu Guyu International Trading Co., Ltd | 3.10
Jiangsu Kentier Wood Co., Ltd | 3.10
Jiangsu Simba Flooring Co., Ltd | 3.10
Jiangsu Yuhui International Trade Co., Ltd | 3.10
Jiashan Fengyun Timber Co., Ltd | 3.10
Jiashan HuiJiaLe Decoration Material Co., Ltd | 3.10
Jiaxing Hengtong Wood Co., Ltd | 3.10
Jilin Forest Industry Jinqiao Flooring Group Co., Ltd | 3.10
Jilin Xinyuan Wooden Industry Co., Ltd | 3.10
Jingsu Mingle Flooring Co., Ltd | 3.10
Karly Wood Product Limited | 3.10
Kember Flooring, Inc | 3.10
Kemian Wood Industry (Kunshan) Co., Ltd | 3.10
Kornbest Enterprises Limited | 3.10
Kunming Alston (AST) Wood Products Co., Ltd | 3.10
Les Planchers Mercier, Inc | 3.10
Linyi Anying Wood Co., Ltd | 3.10
Linyi Youyou Wood Co., Ltd | 3.10
Metropolitan Hardwood Floors, Inc | 3.10
Mudanjiang Bosen Wood Industry Co., Ltd | 3.10
Nakahiro Jyou Sei Furniture (Dalian) Co., Ltd | 3.10
Nanjing Minglin Wooden Industry Co., Ltd | 3.10
Ningbo Tianyi Bamboo and Wood Products Co., Ltd | 3.10
Pinge Timber Manufacturing (Zhejiang) Co., Ltd | 3.10
Power Dekor Group Co. Ltd | 3.10
Qingdao Barry Flooring Co., Ltd | 3.10
Samling Elegant Living Trading (Labuan) Ltd | 3.10
Samling Global USA, Inc | 3.10
Samling Riverside Co., Ltd | 3.10
Scholar Home (Shanghai) New Material Co. Ltd | 3.10
Shandong Kaiyuan Wood Industry Co., Ltd | 3.10
Shandong Longteng Wood Co., Ltd | 3.10
Shandong Puli Trading Co., Ltd | 3.10
Shanghai Anxin (Weiguang) Timber Co., Ltd | 3.10
Shanghai Demeija Timber Co., Ltd | 3.10
Shanghai Eswell Timber Co., Ltd | 3.10
Shanghai Lairunde Wood Co., Ltd | 3.10
Shanghai Lizhong Wood Products Co., Ltd (aka The Lizhong Wood Industry Limited Company of Shanghai) | 3.10
Shanghai New Sihe Wood Co., Ltd | 3.10
Shanghai Shenlin Corporation | 3.10
Shenyang Haobainian Wooden Co., Ltd | 3.10
Shenyang Sende Wood Co., Ltd | 3.10
Shenzhenshi Huanwei Woods Co., Ltd | 3.10
Sino-Maple (Jiangsu) Co., Ltd | 3.10
Suzhou Anxin Weiguang Timber Co., Ltd | 3.10
Suzhou Dongda Wood Co., Ltd | 3.10
Tak Wah Building Material (Suzhou) Co | 3.10
Tech Wood International Ltd | 3.10
Tongxiang Jisheng Import and Export Co., Ltd | 3.10
Vicwood Industry (Suzhou) Co. Ltd | 3.10
Xiamen Yung De Ornament Co., Ltd | 3.10
Xuzhou Antop International Trade Co., Ltd | 3.10
Xuzhou Shenghe Wood Co., Ltd | 3.10
Yekalon Industry, Inc | 3.10
Yihua Lifestyle Technology Co., Ltd | 3.10
Yingyi-Nature (Kunshan) Wood Industry Co., Ltd | 3.10
Yixing Lion-King Timber Industry | 3.10
Zhejiang Anji Xinfeng Bamboo and Wood Industry Co., Ltd | 3.10
Zhejiang Biyork Wood Co., Ltd | 3.10
Zhejiang Dadongwu Green Home Wood Co., Ltd | 3.10
Zhejiang Desheng Wood Industry Co., Ltd | 3.10
Zhejiang Fudeli Timber Industry Co., Ltd | 3.10
Zhejiang Fuerjia Wooden Co., Ltd | 3.10
Zhejiang Fuma Warm Technology Co., Ltd | 3.10
Zhejiang Haoyun Wooden Co., Ltd | 3.10
Zhejiang Jesonwood Co., Ltd | 3.10
Zhejiang Jiechen Wood Industry Co., Ltd | 3.10
Zhejiang Longsen Lumbering Co., Ltd | 3.10
Zhejiang Shuimojiangnan New Material Technology Co., Ltd | 3.10
Zhejiang Simite Wooden Co., Ltd | 3.10
Zhejiang Tianzhen Bamboo & Wood Development Co., Ltd | 3.10
Zhejiang Yongyu Bamboo Joint-Stock Co., Ltd | 3.10

Assessment Rates

Pursuant to 19 CFR 351.212(b)(2), Commerce will determine, and CBP shall assess, countervailing duties on all appropriate entries of subject merchandise in accordance with the final results of this review, for the above-listed companies at the applicable ad valorem assessment rates listed. We intend to issue assessment instructions to CBP 15 days after the date of publication of these final results of review.

For the companies for which this review is rescinded, Commerce will instruct CBP to assess countervailing duties on all appropriate entries at a rate equal to the cash deposit of estimated countervailing duties required at the time of entry, or withdrawal from warehouse, for consumption, during the POR in accordance with 19 CFR 351.212(c)(l)(i).

Cash Deposit Requirements

Commerce also intends to instruct CBP to collect cash deposits of estimated countervailing duties in the amounts shown for each of the respective companies listed above on shipments of subject merchandise entered, or withdrawn from warehouse, for consumption on or after the date of publication of the final results of this administrative review. For all non-reviewed firms, we will instruct CBP to continue to collect cash deposits of estimated countervailing duties at the most recent company-specific or all others rate applicable to the company, as appropriate. These cash deposit requirements, effective upon publication of these final results, shall remain in effect until further notice.

Administrative Protective Orders

This notice also serves as a reminder to parties subject to administrative protective order (APO) of their responsibility concerning the return or destruction of proprietary information disclosed under APO in accordance with 19 CFR 351.305(a)(3). Timely written notification of the return or destruction of APO materials, or conversion to judicial protective order, is hereby requested. Failure to comply with the regulations and terms of an APO is a sanctionable violation.

We are issuing and publishing these final results in accordance with sections 751(a)(1) and 777(i)(1) of the Act.

Dated: July 30, 2019.
Christian Marsh,
Deputy Assistant Secretary for Enforcement and Compliance.

Appendix I

List of Topics Discussed in the Final Decision Memorandum

I. Summary

II. Background

III. Scope of the Order

IV. Partial Rescission of Administrative Review

V. Period of Review

VI. Subsidies Valuation Information

VII. Changes From the Preliminary Results

VIII. Use of Facts Otherwise Available

IX. Analysis of Programs

X. Analysis of Comments

Comment 1: Application of Total Adverse Facts Available (AFA) to the GOC and Riverside Plywood

Comment 2: Application of Partial AFA with Respect to Riverside's Plywood's Purchases of Veneers for Less than Adequate Remuneration (LTAR)

Comment 3: Application of AFA with Respect to the Jiangsu Senmao's Receipt of Policy Loans for LTAR

Comment 4: Application of AFA with Respect to the Export Buyer's Credit Program

Comment 5: Selection of the AFA Rate for the Export Buyer's Credit Program

Comment 6: Countervailability of Other Subsidies

Comment 7: Whether to Adjust Benchmark Prices to Account for Prevailing Market Conditions

Comment 8: Applicable Value Added Tax (VAT) Rate for Benchmark Prices

Comment 9: Applicable Import Duty for Benchmark Prices

Comment 10: Requirements Necessary to Determine Countervailability of Land Use

Comment 11: Amount to Use as Benefit for Grants

Comment 12: Exclusion of Certain Export Data Used to Calculate the Veneers Benchmark

XI. Recommendation

[FR Doc. 2019-16753 Filed 8-5-19; 8:45 am]

BILLING CODE 3510-DS-P